DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Reporting of Sea Turtle Entanglements in Pot Gear Fisheries.

Form Number(s): None.

OMB Approval Number: 0648-0496.

Type of Request: Regular submission.

Burden Hours: 45.

Number of Respondents: 15.

Average Hours Per Response: 1 hour.

Needs and Uses: Sea turtles can become accidentally entangled in active or discarded fixed fishing gear. These entanglements may prevent the recovery of endangered and threatened sea turtle populations. The National Marine Fisheries Service (NMFS) established the Sea Turtle Disentanglement Network to promote reporting and increase successful disentanglement of sea turtles. As there is limited to no observer coverage of pot gear fisheries, NMFS relies on the U.S. Coast Guard, fishing industry, stranding network, federal, state, and local authorities, and the public for this information. The information provided will help NMFS better assess pot gear fisheries (lobster, whelk/conch, crab, fish trap) and their impacts on sea turtle populations in the northeast region (Maine to Virginia).

Affected Public: Not-for-profit institutions; business or other for-profit organizations; State, Local or Tribal Government.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 4, 2007.
Gwellnar Banks,
Management Analyst, Office of the Chief Information Officer.

[FR Doc. E7-23865 Filed 12-7-07; 8:45 am]

BILLING CODE 3510-22-P